DEPARTMENT OF THE INTERIOR

National Park Service

National Capital Region; Notice/Request for Comments—The Lighting of the National Christmas Tree Event

SUMMARY: The National Park Service is seeking public comments and suggestions on the planning of the 2007 Lighting of the National Christmas Tree and the subsequent 26-day event.

SUPPLEMENTARY INFORMATION: The National Park Service is seeking public comments and suggestions on the planning of the 2007 Lighting of the National Christmas Tree and the subsequent 26-day event, which opens on December 6, 2007, on the Ellipse (President's Park), south of the White House. The meeting will be held at 9 a.m. on November 27, 2007 in Room 234 of the National Capital Region Headquarters Building, at 1100 Ohio Drive, SW., Washington, DC (East Potomac Park).

Persons who would like to comment at the meeting should notify the National Park Service by November 23, 2007 by calling the White House Visitor Center weekdays between 9 a.m., and 4 p.m., at (202) 208-1631. Written comments may be sent to the Park Manager, White House Visitor Center, 1100 Ohio Drive, SW., Washington, DC 20242, and will be accepted until November 27, 2007.

The meeting will be held on November 27, 2007. Written comments will be accepted until November 27, 2007.

ADDRESSES: The meeting will be held at 9 a.m. on November 27, 2007, in Room 234 of the National Capital Region Headquarters Building, at 1100 Ohio Drive, SW., Washington, DC (East Potomac Park). Written comments may be sent to the Park Manager, White House Visitor Center, 1100 Ohio Drive, SW., Washington, DC 20242. Due to delays in mail delivery, it is recommended that comments be provided by telefax at 202-208-1643 or by e-mail to John_Stanwich@nps.gov. Comments may also be delivered by messenger to the White House Visitor Center at 1450 Pennsylvania Avenue, NW., in Washington, DC.

FOR FURTHER INFORMATION CONTACT: John Stanwich at the White House Visitor Center weekdays between 9 a.m., and 4 p.m., at (202) 208-1631.

Dated: October 22, 2007.
Maria Santo,
Deputy National Park Service Liaison to the White House

[FR Doc. E7-21639 Filed 11-2-07; 8:45 am]

BILLING CODE 4312-JK-P